LEGAL SERVICES CORPORATION

Sunshine Act Meeting

DATE AND TIME: The Legal Services Corporation's Board of Directors and its six committees will meet April 23-25, 2017. On Sunday, April 23, the first meeting will commence at 2:00 p.m., Eastern Daylight Time (EDT). On Monday, April 24, the first meeting will commence at 9:00 a.m., EDT, with the next meeting commencing promptly upon adjournment of the immediately preceding meeting. On Tuesday, April 25, the first meeting will commence at 9:00 a.m., EDT and will be followed by the closed session meeting of the Board of Directors that will commence promptly upon adjournment of the prior meeting.

LOCATION: Legal Services Corporation, 3333 K Street NW., 3rd Floor F. William McCalpin Conference Center, Washington, DC 20007.

PUBLIC OBSERVATION: Unless otherwise noted herein, the Board and all committee meetings will be open to public observation. Members of the public who are unable to attend in person but wish to listen to the public proceedings may do so by following the telephone call-in directions provided below.

CALL-IN DIRECTIONS FOR OPEN SESSIONS:

• Call toll-free number: 1-866-451-4981;

• When prompted, enter the following numeric pass code: 5907707348.

• Once connected to the call, your telephone line will be automatically “MUTED”.

• To participate in the meeting during public comment press #6 to “UNMUTE” your telephone line, once you have concluded your comments please press *6 to “MUTE” your line.

Members of the public are asked to keep their telephones muted to eliminate background noises. To avoid disrupting the meeting, please refrain from placing the call on hold if doing so will trigger recorded music or other sound. From time to time, the presiding Chair may solicit comments from the public.

Meeting Schedule

Sunday, April 23, 2017/Time*

* Please note that all times in this notice are in Eastern Daylight Time.

1. Operations & Regulations Committee 2:00 p.m.

Monday, April 24, 2017

1. Finance Committee 9:00 a.m.

2. Delivery of Legal Services Committee

3. Institutional Advancement Committee

4. Communications Subcommittee of the Institutional Advancement Committee

5. Audit Committee

6. Governance and Performance Committee

Tuesday, April 25, 2017

1. Board of Directors 9:00 a.m.

STATUS OF MEETING: Open, except as noted below.

Board of Directors—Open, except that, upon a vote of the Board of Directors, a portion of the meeting may be closed to the public to hear briefings by management and LSC's Inspector General, and to consider and act on the General Counsel's report on potential and pending litigation involving LSC, and on a list of prospective funders.**

** Any portion of the closed session consisting solely of briefings does not fall within the Sunshine Act's definition of the term ``meeting'' and, therefore, the requirements of the Sunshine Act do not apply to such portion of the closed session. 5 U.S.C. 552b(a)(2) and (b). See also 45 C.F.R. § 1622.2 & 1622.3.

Institutional Advancement Committee—Open, except that, upon a vote of the Board of Directors, the meeting may be closed to the public to consider and act on recommendation of new Leaders Council invitees and to receive a report on Development activities.**

Audit Committee—Open, except that the meeting may be closed to the public to hear a briefing on the Office of Compliance and Enforcement's active enforcement matters.**

A verbatim written transcript will be made of the closed session of the Board, Institutional Advancement Committee, and Audit Committee meetings. The transcript of any portions of the closed sessions falling within the relevant provisions of the Government in the Sunshine Act, 5 U.S.C. 552b(c)(6) and (10), will not be available for public inspection. A copy of the General Counsel's Certification that, in his opinion, the closing is authorized by law will be available upon request.

MATTERS TO BE CONSIDERED:

April 23, 2017

Operations & Regulations Committee

Open Session

1. Approval of agenda

2. Approval of minutes of the Committee's Open Session meeting of January 26, 2017

3. Update on performance management and human capital management

• Traci Higgins, Director of Human Resources

4. Report on data validation and enhancement process

• Carlos Manjarrez, Director of the Office of Data Governance and Analysis

5. Consider and act on the 2017-2018 Rulemaking Agenda

• Ron Flagg, General Counsel and Vice President for Legal Affairs

• Stefanie Davis, Assistant General Counsel

• Mark Freedman, Senior Associate General Counsel

6. Consider and act on the Notice of Proposed Rulemaking for 45 CFR part 1629—Bonding

• Ron Flagg, General Counsel and Vice President for Legal Affairs

• Stefanie Davis, Assistant General Counsel

• Tyler Ellis, Law Fellow

7. Consider and act on a Final Rule for 45 CFR part 1609—Fee Generating Cases

• Ron Flagg, General Counsel and Vice President for Legal Affairs

• Stefanie Davis, Assistant General Counsel

• Blair Gilbert, Law Fellow

8. Report on Rulemaking for 45 CFR parts 1630 and 1631—Costs and Property

• Ron Flagg, General Counsel and Vice President for Legal Affairs

• Stefanie Davis, Assistant General Counsel

• Mark Freedman, Senior Associate General Counsel

9. Other public comment

10. Consider and act on other business

11. Consider and act on adjournment of meeting

* * * * *

April 24, 2017

Finance Committee

Open Session

1. Approval of agenda

2. Approval of minutes of the Committee's Open Session meeting on January 27, 2017

3. Approval of minutes of the Combined Finance and Audit Committee's Open Session meeting on January 27, 2017

4. Presentation of LSC's Financial Report for the first five months of FY 2017

• David Richardson, Treasurer/Comptroller

5. Discussion of LSC's FY 2017 appropriations

• Carol Bergman, Vice President for Government Relations & Public Affairs

6. Review of LSC's Operating Budget for FY 2017 and Internal budgetary adjustments

• David Richardson, Treasurer/Comptroller

7. Discussion of LSC's FY 2018 appropriations request

• Carol Bergman, Director of Government Relations & Public Affairs

8. Management discussion regarding process and timetable for FY 2019 budget request

• Carol Bergman, Director of Government Relations & Public Affairs

9. Public comment

10. Consider and act on other business

11. Consider and act on adjournment of meeting

* * * * *

April 24, 2017

Delivery of Legal Services Committee

Open Session

1. Approval of agenda

2. Approval of minutes of the Committee's Open Session meeting on January 27, 2017

3. Discussion of Committee transition planning

4. Update of LSC revision of Performance Criteria

• Lynn Jennings, Vice President for Grants Management

5. Presentation on grantee oversight by the Office of Program Performance

a. Grantee visits

b. Program Quality Visit recommendations

c. Post-Program Quality Visit and grantee application reviews

d. Special grant conditions and grant terms

• Lynn Jennings, Vice President for Grants Management

• Janet LaBella, Director, Office of Program Performance

• Althea Hayward, Deputy Director, Office of Program Performance

6. Public comment

7. Consider and act on other business

8. Consider and act on motion to adjourn the meeting

* * * * *

April 24, 2017

Institutional Advancement Committee

Open Session

1. Approval of agenda

2. Approval of minutes of the Committee's Open Session meeting of January 27, 2017

3. Update on Leaders Council

• John G. Levi, Chairman of the Board

4. Development report

• Alison Stautberg, Director of Institutional Advancement

5. Public Comment

6. Consider and act on other business

7. Consider and act on motion to adjourn the open session meeting and proceed to a closed session

Closed Session

8. Approval of minutes of the Committee's Closed Session meeting of January 27, 2017

9. Development activities report

10. Consider and act on motion to approve Leaders Council invitees

11. Consider and act on other business

12. Consider and act on motion to adjourn the meeting

* * * * *

Communications Subcommittee of the Institutional Advancement Committee

Open Session

1. Approval of agenda

2. Approval of minutes of the Subcommittee's Open Session meeting of January 27, 2017

3. Communications analytics update

• Carl Rauscher, Director of Communications and Media Relations

4. Public comment

5. Consider and act on other business

6. Consider and act on motion to adjourn the meeting

* * * * *

April 24, 2017

Audit Committee

Open Session

1. Approval of agenda

2. Approval of minutes of the Committee's Open Session meeting on January 27, 2017

3. Approval of minutes of the Combined Audit and Finance Committee's Open Session meeting on January 27, 2017

4. Briefing of Office of Inspector General

• Jeffrey Schanz, Inspector General

• John Seeba, Assistant Inspector General for Audits

5. Management update regarding risk management

• Ron Flagg, General Counsel and Vice President for Legal Affairs

6. Briefing about follow-up by the Office of Compliance and Enforcement on referrals by the Office of Inspector General regarding audit reports and annual Independent Public audits of grantees

• Lora Rath, Director of Compliance and Enforcement

• John Seeba, Assistant IG for Audits

7. Public comment

8. Consider and act on other business

9. Consider and act on motion to adjourn the open session meeting and proceed to a closed session

Closed Session

10. Approval of minutes of the Committee's Closed Session meeting of January 27, 2017

11. Briefing by the Office of Compliance and Enforcement on active enforcement matter(s) and follow-up to open investigation referrals from the Office of Inspector General

• Lora Rath, Director of Compliance and Enforcement

12. Consider and act on adjournment of meeting

* * * * *

April 24, 2017

Governance and Performance Review Committee

Open Session

1. Approval of agenda

2. Approval of minutes of the Committee's Open Session meeting on January 26, 2017

3. Report on evaluations of LSC's Comptroller, Vice President for Grants Management, Vice President for Government Relations & Public Affairs, and Vice President for Legal Affairs

• Jim Sandman, President

4. Report on foundation grants and LSC's research agenda

• Jim Sandman, President

5. Briefing and presentation on Ford Foundation report on statewide legal aid Web sites

• Lynn Jennings, Vice President for Grants Management

• David Bonebrake, Program Counsel

6. Report on transition planning

• Report on White House transition

• Carol Bergman, Vice President for Government Relations & Public Affairs

• Report on Board transition

• Ron Flagg, General Counsel and Vice President for Legal Affairs

7. Consider and act on other business

8. Public comment

9. Consider and act on adjournment of meeting

* * * * *

April 24-25, 2017

Board of Directors

Open Session—April 24

1. Pledge of Allegiance

2. Approval of agenda

3. Approval of minutes of the Board's Open Session meeting of January 28, 2017

4. Presentation of Resolution 2017-008: In Memoriam—Bertrand Shipley Thomas

5. Chairman's Report

6. Members' Report

7. Consider and act on motion to recess the meeting to April 25

Open Session—April 25

1. President's Report

2. Inspector General's Report

3. Consider and act on the report of the Operations and Regulations Committee

4. Consider and act on the report of the Finance Committee

5. Consider and act on the report of the Delivery of Legal Services Committee

6. Consider and act on the report of the Institutional Advancement Committee

7. Consider and act on the report of the Audit Committee

8. Consider and act on the report of the Governance and Performance Review Committee

9. Public Comment

10. Consider and act on other business

11. Consider and act on whether to authorize a closed session of the Board to address items listed below

Closed Session

1. Approval of minutes of the Board's Closed Session meeting of January 28, 2017

2. Management briefing

3. Inspector General briefing

4. Consider and act on General Counsel's report on potential and pending litigation Involving LSC

5. Consider and act on list of prospective Leaders Council members

6. Consider and act on motion to adjourn meeting

CONTACT PERSON FOR INFORMATION: Katherine Ward, Executive Assistant to the Vice President & General Counsel, at (202) 295-1500. Questions may be sent by electronic mail to FR_NOTICE_QUESTIONS@lsc.gov.

NON-CONFIDENTIAL MEETING MATERIALS: Non-confidential meeting materials will be made available in electronic format at least 24 hours in advance of the meeting on the LSC Web site, at http://www.lsc.gov/board-directors/meetings/board-meeting-notices/non-confidential-materials-be-considered-open-session.

ACCESSIBILITY: LSC complies with the American's with Disabilities Act and Section 504 of the 1973 Rehabilitation Act. Upon request, meeting notices and materials will be made available in alternative formats to accommodate individuals with disabilities. Individuals who need other accommodations due to disability in order to attend the meeting in person or telephonically should contact Katherine Ward, at (202) 295-1500 or FR_NOTICE_QUESTIONS@lsc.gov, at least 2 business days in advance of the meeting. If a request is made without advance notice, LSC will make every effort to accommodate the request but cannot guarantee that all requests can be fulfilled.

Dated: April 13, 2017.
Katherine Ward,
Executive Assistant to the Vice President for Legal Affairs, General Counsel & Corporate Secretary.

[FR Doc. 2017-07793 Filed 4-13-17; 4:15 pm]

BILLING CODE 7050-01-P